DEPARTMENT OF AGRICULTURE

Forest Service

Pemigewasset Ranger District; White Mountain National Forest; Grafton County New Hampshire; Waterville Valley Resort EIS

AGENCY: Forest Service, Agriculture (USDA).

ACTION: Notice of intent to prepare an environmental impact statement.

SUMMARY: The White Mountain National Forest (WMNF) is initiating the preparation of an environmental impact statement (EIS) to analyze and disclose the potential significant environmental effects of projects proposed by Waterville Valley Resort (WVR). The proposed projects (proposed action) are identified within WVR's 2020 Master Development Plan (MDP), and include installation of a village to summit lift system; construction of new traditional and gladed ski terrain; development of new on-mountain facilities; development of new snowmaking infrastructure; construction of a new parking lot; and amendments to the 2005 Land and Resource Management Plan (Forest Plan) to permit the expansion of WVR's existing special use permit (SUP) boundary and to remove the applicability of Forest-wide Canada Lynx Standard S-3 consistent with the National Forest Management Act (NFMA). The Planning, Administrative Review, and Litigation System identification number for the project is 67459.

DATES: Comments concerning the scope of the analysis must be received by June 16, 2025. The draft EIS will be released a year from publishing of the Notice of Intent (NOI) and the final EIS will be released two years from publishing of the NOI, initiating the objection period.

ADDRESSES: Comments may be sent electronically to SM.whitemountain.comments@usda.gov or via facsimile to 603-536-3685. Please put “Waterville Valley Resort scoping” in the subject line. Send written comments to Derek Ibarguen, Forest Supervisor, c/o Justin Preisendorfer, Winter Sports Team Leader, White Mountain National Forest, 71 White Mountain Drive, Campton, NH 03223.

FOR FURTHER INFORMATION CONTACT: Matt Loscalzo, Project Manager, by email at matthew.loscalzo@usda.gov or by phone at 720-908-1213.

Individuals who use telecommunication devices for the deaf (TDD) may call the Federal Information Relay Service (FIRS) at 844-433-2774, 24 hours a day, every day of the year, including holidays.

SUPPLEMENTARY INFORMATION:

Purpose and Need for Action

The purpose of, and need for, Forest Service action is to respond to an application submitted by WVR under the National Forest Ski Area Permit Act of 1986 and Ski Area Recreational Opportunity Act of 2011 to expand their permit boundary and to implement projects from their Forest Service-accepted MDP.

The objective of the proposed action is to connect WVR and the Town of Waterville Valley amenities and increase the availability of terrain and services at the resort to meet growing guest expectations. To meet this objective, WVR is proposing various projects to enhance the recreation experience which cannot be accomplished with existing amenities and infrastructure.

Proposed Action

The proposed action includes projects located on, or connected to, National Forest System (NFS) lands managed by the WMNF.

WVR proposes to construct a lift system between the Town of Waterville Valley and WVR; increase terrain diversity and quantity of gladed (tree skiing) terrain; improve lift and terrain access for guests at the WVR base area; and provide additional on-mountain guest services.

WVR's existing 3,066-acre SUP boundary is proposed to increase by approximately 333 acres. Additionally, 377 acres would be designated as Management Area 9.2—Alpine Ski Area Expansion for potential future development requiring site-specific NEPA analysis prior to any implementation. A village-to-summit lift system is proposed to provide direct non-vehicular transit between the Town of Waterville Valley and WVR. The 10-person lift system would be approximately 8,550 feet in length and would include two separate segments and a mid-station. The bottom terminal would be located on private land owned by a sister company to the proponent which would be analyzed in the EIS as a connected action. Approximately 200 acres of new gladed terrain and up to 32 acres of traditional ski terrain is proposed within WVR's existing and proposed SUP boundary. New snowmaking infrastructure is proposed to provide snowmaking coverage to all traditional ski terrain, totaling approximately 32 acres of new snowmaking. Two new on-mountain facilities are also proposed, including a lift system mid-station building with a guest service and administrative space, as well as a restaurant at the top of Green Peak. Additionally, a parking lot with approximately 80 parking spaces is proposed adjacent to the lift system mid-station. To provide access to the lot and to the proposed mid-station, an approximately 700-foot-long access road would be constructed from Tripoli Road.

To accommodate the proposed action, an amendment to the Forest Plan is proposed to reallocate approximately 710 acres of NFS lands to Management Area 7.1—Alpine Ski Area and Management Area 9.2—Alpine Ski Area Expansion; additionally, 387 acres of NFS lands currently designated as Management Area 9.2—Alpine Ski Area Expansion is proposed to be reallocated to new Management Areas which would preclude future expansion of downhill skiing infrastructure. Further, a programmatic amendment to the Forest Plan is also proposed to remove the applicability of Forest-wide Canada Lynx Standard S-3 from within the proposed SUP boundary expansion and adjacent block of proposed Management Area 9.2—Alpine Ski Area Expansion.

Preliminary Alternatives

An EIS is being used due to the potential loss of suitable habitat for Canada Lynx and potential significant effects to lynx habitat. These effects could drive analysis alternatives.

Expected Impacts

The proposed action has the potential to result in significant impacts to various resources. Specific issues to be analyzed in the forthcoming EIS in order to determine significance include, but are not limited to potential impacts to water quality and quantity from increases in run-off and peak flows, potential impacts to suitable Canada lynx foraging and denning habitat, the potential for increased soil erosion and soil compaction from tree-clearing and grading associated with construction and operation of the proposed projects, and potential impacts to northern long-eared, tricolored, and woodland bats due to tree clearing. In addition to the proposed ski area development, reallocations of Forest Plan Management Areas could impact resources through changes to management prescriptions and designated uses that exist for those Management Areas.

Lead and Cooperating Agencies

The Forest Service is the lead Federal agency for NEPA compliance, review, and approval concerning the EIS. While the Forest Service is the lead agency for this project, any government agency with jurisdiction or special expertise relating to a proposed action may be a cooperating agency in the NEPA process, at the request of the lead agency. Any such agency may also request to be designated as a cooperating agency. At this time, no agency has been designated or requested to be involved as a cooperating agency.

Responsible Official

The responsible official is White Mountain National Forest Supervisor, Derek Ibarguen.

Scoping Comments and the Objection Process

This notice of intent initiates the scoping process, which guides the development of the environmental impact statement. In this process, the Agency is requesting comments on potential alternatives and impacts, and identification of any relevant information, studies or analyses of any kind concerning impacts affecting the quality of the human environment. One public open house meeting and one virtual meeting will be held during the public scoping comment period. The open house date and location and link to the virtual meeting will be posted to the project website: https://www.fs.usda.gov/r09/whitemountain/projects/67459. Representatives from the WMNF and WVR will be present to provide additional information on the proposed action.

It is important that reviewers provide their comments at such times and in such manner that they are useful to the agency's preparation of the draft EIS; therefore, comments should be provided prior to the close of the comment period and should clearly articulate the reviewer's concerns. Commenting during scoping and any other designated opportunity to comment provided by the responsible official as prescribed by the applicable regulations will also govern eligibility to object once the final EIS and draft record of decision (ROD) has been published. Comments received in response to this solicitation, including names and addresses of those who comment, will be part of the public record for this proposed action. Comments submitted anonymously will be accepted and considered; however, they do not establish eligibility for the objection process.

Objections will be accepted only from those who have previously submitted specific written comments regarding the proposed project during scoping or other designated opportunity for public comment in accordance with 36 CFR 218.5 and 219.53. Issues raised in objections must be based on previously submitted timely, specific written comments regarding the proposed project unless based on new information arising after designated opportunities.

Permits, Licenses or Other Authorizations Required

Permits and other authorizations required for this project include a Forest Service SUP amendment. Additionally, WVR will be responsible for acquiring all relevant permits prior to implementation such as but not limited to a New Hampshire (NH) Department of Transportation (DOT) driveway permit, NH DOT encroachment agreement, NH Department of Environmental Services (DES) alteration of terrain permit, and NH DES wetlands permit.

Nature of Decision To Be Made

Given the purpose and need, the responsible official will review the proposed action, any other potential alternatives to be developed, and environmental consequences to determine whether the proposed action complies with all applicable laws governing Forest Service actions and with applicable standards and guidelines found in the Forest Plan; whether the EIS has sufficient site-specific environmental analysis to make an informed decision; and whether the proposed action meets the purpose and need for action. With this information, the responsible official must decide whether to select the proposed action, in whole or in part, or one of any other potential alternatives that may be developed, and what, if any, additional actions should be required.

Substantive Requirements

The substantive requirements of 36 CFR 219.8 through 219.11 that directly apply to the proposed Forest Plan amendments are § 219.8(a) and (b) sustainability, § 219.9(a) diversity of plant and animal communities, § 219.10(a) multiple uses, and § 219.11(c) and (d) timber requirements based on NFMA.

Ellen Shultzabarger,
Associate Deputy Chief, National Forest System.

[FR Doc. 2025-08693 Filed 5-15-25; 8:45 am]

BILLING CODE 3411-15-P